DEPARTMENT OF AGRICULTURE

Foreign Agricultural Service

Trade Adjustment Assistance for Farmers

AGENCY: Foreign Agricultural Service, USDA.

ACTION: Notice.

The Administrator, Foreign Agricultural Service (FAS), today accepted a petition filed by the Tropical Fruit Growers of South Florida, Inc., representing a group of fresh lychee producers from Florida for trade adjustment assistance. The Administrator will determine within 40 days whether or not imports of lychees contributed importantly to a decline in domestic producer prices by more than 20 percent during the marketing period beginning May 2003 and ending July 2003. If the determination is positive, all lychee producers will be eligible to apply to the Farm Service Agency for technical assistance at no cost and adjustment assistance.

FOR FURTHER INFORMATION CONTACT: Jean-Louis Pajot, Coordinator, Trade Adjustment Assistance for Farmers, FAS, USDA, (202) 720-2916, e-mail: trade.adjustment@fas.usda.gov.

Dated: February 10, 2004.
A. Ellen Terpstra,
Administrator, Foreign Agricultural Service.

[FR Doc. 04-3805 Filed 2-20-04; 8:45 am]

BILLING CODE 3410-10-P